NATIONAL SCIENCE FOUNDATION

Advisory Committee for Computer and Information Science and Engineering; Notice of Meeting

In accordance with the Federal Advisory Committee Act (Pub. L. 92-463, as amended), the National Science Foundation (NSF) announces the following meeting:

Name and Committee Code: Advisory Committee for Computer and Information Science and Engineering (#1115).

Date and Time: June 8, 2023—12:00 p.m.-5:30 p.m. (Eastern); June 9, 2023—8:30 a.m.-12:30 p.m. (Eastern).

Place: NSF, 2415 Eisenhower Avenue, Alexandria, VA 22314 (Hybrid).

To attend in person or virtually, please send your request to the following email: kmayberr@nsf.gov.

Type of Meeting: Open.

Contact Persons: KaJuana Mayberry, National Science Foundation, 2415 Eisenhower Avenue, Alexandria, VA 22314; Telephone: 703-292-8900; email: kmayberry@nsf.gov.

Purpose of Meeting: To provide advice, recommendations, and counsel on major goals and policies pertaining to Computer and Information Science and Engineering programs and activities.

Agenda: The agenda includes updates on NSF and CISE activities, as well as a discussion of education and workforce development, expanding the geography of innovation, artificial intelligence, and semiconductors.

Dated: May 9, 2023.
Crystal Robinson,
Committee Management Officer.

[FR Doc. 2023-10197 Filed 5-11-23; 8:45 am]

BILLING CODE 7555-01-P